DEPARTMENT OF ENERGY

National Petroleum Council; Meeting

AGENCY: Office of Fossil Energy, Department of Energy.

ACTION: Notice of open meeting.

SUMMARY: This notice announces a meeting of the National Petroleum Council. The Federal Advisory Committee Act requires that public notice of this meeting be announced in the Federal Register.

DATES: Tuesday, December 4, 2018, 9:00 a.m. to 11:30 a.m.

ADDRESSES: The St. Regis Washington, DC, 923 Sixteenth Street NW, Washington, DC 20006, Room: Astor Ballroom.

FOR FURTHER INFORMATION CONTACT: Nancy Johnson, U.S. Department of Energy, Office of Oil and Natural Gas (FE-30), Washington, DC 20585; telephone (202) 586-5600 or facsimile (202) 586-6221.

SUPPLEMENTARY INFORMATION:

Purpose of the Committee: To provide advice, information, and recommendations to the Secretary of Energy on matters relating to oil and natural gas, or the oil and natural gas industries.

Tentative Agenda

• Call to Order and Introductory Remarks

• Remarks by the Honorable Rick Perry, Secretary of Energy

• Progress Report from the NPC Committee on U.S. Oil and Natural Gas Transportation Infrastructure

• Progress Report from the NPC Committee on Carbon Capture, Use, and Storage

• Progress Report on the Supplemental Analysis to the NPC Arctic Potential Report

• Administrative Matters

• Discussion of Any Other Business Properly Brought Before the National Petroleum Council

• Adjournment

Public Participation: The meeting is open to the public. The Chair of the Council will conduct the meeting to facilitate the orderly conduct of business. Members of the public who wish to make oral statements pertaining to agenda items should contact Ms. Nancy Johnson at the address or telephone number listed above. Request for oral statements must be received at least three days prior to the meeting. Those not able to attend the meeting or having insufficient time to address the Council are invited to send a written statement to info@npc.org. Any member of the public who wishes to file a written statement to the Council will be permitted to do so, either before or after the meeting.

Transcripts: Transcripts of the meeting will be available by contacting Ms. Johnson at the address above, or info@npc.org.

Signed in Washington, DC, on November 9, 2018.
LaTanya Butler,
Deputy Committee Management Officer.

[FR Doc. 2018-25164 Filed 11-16-18; 8:45 am]

BILLING CODE 6450-01-P